DEPARTMENT OF AGRICULTURE

Forest Service

Information Collection; Small Business Timber Sale Set-Aside Program; Appeal Procedures on Recomputation of Shares

AGENCY: Forest Service, USDA.

ACTION: Notice; Request for Comment.

SUMMARY: In accordance with the Paperwork Reduction Act of 1995, the Forest Service is seeking comments from all interested individuals and organizations on the extension of a currently approved information collection, Small Business Timber Sale Set-Aside Program: Appeal Procedures on Recomputation of Shares.

DATES: Comments must be received in writing on or before February 8, 2008 to be assured of consideration. Comments received after that date will be considered to the extent practicable.

ADDRESSES: Comments concerning this notice should be addressed to Sharon Nygaard-Scott, Forest Management Staff, Forest Service, USDA, Mail Stop 1103, 1400 Independence Avenue, SW., Washington, DC 20250.

Comments also may be submitted via facsimile to 202-205-1045 or by e-mail to: wosbaprocess@fs.fed.us. In addition, comments may be submitted via the World Wide Web/Internet at: http://www.regulations.gov.

The public may inspect comments received at the Forest Service, Forest Management Staff Office, Third Floor SW, 201 14th Street, SW., Washington, DC, during normal business hours. Visitors are encouraged to call ahead to 202-205-1766 to facilitate entrance into the building.

FOR FURTHER INFORMATION CONTACT: Sharon Nygaard Scott, Forest Management Staff, at 202-205-1766. Individuals who use telecommunication devices for the deaf (TDD) may call the Federal Relay Service (FRS) at 1-800-877-8339, 24 hours a day, every day of the year, including holidays.

SUPPLEMENTARY INFORMATION:

Title: Small Business Timber Sale Set-Aside Program; Appeal Procedures on Recomputation of Shares

OMB Number: 0596-0141

Expiration Date of Approval: July 31, 2008

Type of Request: Extension of a currently approved collection

Abstract: The Forest Service adopted the Small Business Timber Sale Set-Aside Program on July 26, 1990 (55 FR 30485). The Agency administers the program in cooperation with the Small Business Administration (SBA) under the authorities of the Small Business Act of 1998, the National Forest Management Act of 1976, and SBA regulations in 13 CFR part 121. The program is designed to ensure that small business timber purchasers have the opportunity to purchase a fair proportion of National Forest System timber offered for sale.

Under the program, the Forest Service must recompute the shares of timber sales to be set aside for qualifying small businesses every 5 years based on the actual volume of saw timber that has been purchased by small businesses. Shares must be recomputed if there is a change in manufacturing capability, if the purchaser size class changes, or if certain purchasers discontinue operations.

In 1992, the Agency adopted new administrative appeal procedures (36 CFR part 215), which excluded the Small Business Timber Sale Set-Aside Program. Prior to adoption of 36 CFR part 215, the Agency had accepted appeals of recomputations decisions under 36 CFR part 217; and therefore decided to establish procedures for providing notice to affected purchasers offering an opportunity to comment on the recomputation of shares (61 FR 7468). The Conference Report accompanying the 1997 Omnibus Appropriation Act directed the Forest Service to reinstate an appeals process for decisions concerning recomputation of Small Business Set-Aside shares, structural recomputations of SBA shares, or changes in policies impacting the Small Business Timber Set-Aside Program prior to December 31, 1996. The Small Business Timber Sale Set-Aside Program; Appeal Procedures on Recomputation of Shares (36 CFR part 223) outlines the types of decisions that are subject to appeal, who may appeal decisions, the procedures for appeal decisions, the timelines for appeal, and the contents of the notice of appeal.

The Forest Service provides qualifying timber sale purchasers 30 days for predecisional review and comment on draft decisions to reallocate shares, including the data used in making the proposed recomputation decision. Within 15 days after the close of the 30-day predecisional review period, an Agency official makes a decision on the shares to be set aside for small businesses and gives written notice of the decision to all parties on the national forest timber sale bidders list for the affected area. The written notice provides the date by which the appeal may be filed and how to obtain information on appeal procedures.

Only those timber sale purchasers, or their representatives, affected by small business share timber sale set-aside recomputation decisions who have submitted predecisional comments may appeal recomputation decisions. The appellant must file a notice of appeal with the appropriate Forest Service official within 20 days of the date of the notice of decision. The notice of appeal must include:

1. The appellant's name, mailing address, and day-time telephone number;

2. The title and date of the decision;

3. The name of the responsible Forest Service official;

4. A brief description and date of the decision being appealed;

5. A statement of how the appellant is adversely affected by the decision being appealed;

6. A statement of facts in dispute regarding the issue(s) raised by the appeal;

7. Specific references to law, regulation, or policy that the appellant believes have been violated (if any) and the basis for such an allegation;

8. A statement as to whether and how the appellant has tried to resolve the appeal issues with the appropriate Forest Service official, including evidence of submission of written comments at the predecisional stage; and

9. A statement of the relief the appellant seeks.

The data gathered in this information collection is not available from other sources.

Estimate of Annual Burden: 4 hours.

Type of Respondents: Timber sale purchasers, or their representatives, who are affected by recomputations of the small business share of timber sales.

Estimated Annual Number of Respondents: 40.

Estimated Annual Number of Responses per Respondent: 2.

Estimated Total Annual Burden on Respondents: 320.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: November 27, 2007.
Gloria Manning,
Associate Deputy Chief, National Forest System.

[FR Doc. E7-23836 Filed 12-7-07; 8:45 am]

BILLING CODE 3410-11-P